DEPARTMENT OF ENERGY

Federal Energy Regulatory Commission

Notice of Effectiveness of Exempt Wholesale Generator Status

December 15, 2006.

| Docket No.
Snowflake White Mountain Power, LLC | EG06-67-000
White Creek Wind I, LLC | EG06-70-000
MinnDakota Wind, LLC | EG06-81-000
CR Clearing, LLC d/b/a Conception Wind Power | EG06-82-000
GSG, LLC | EG06-83-000
Peetz Logan Interconnect, LLC | EG06-84-000

Take notice that during the month of November 2006, the status of the above-captioned entities as Exempt Wholesale Generators became effective by operation of the Commission's regulations. 18 CFR 366.7(a).

Magalie R. Salas,
Secretary.

[FR Doc. E6-21960 Filed 12-21-06; 8:45 am]

BILLING CODE 6717-01-P